DEPARTMENT OF COMMERCE

International Trade Administration

The Manufacturing Council: Meeting of the Manufacturing Council

AGENCY: International Trade Administration, U.S. Department of Commerce.

ACTION: Notice of an open meeting.

SUMMARY: The Manufacturing Council will hold a full Council meeting to discuss topics related to the state of manufacturing. The Manufacturing Council is a Secretarial Board at the Department of Commerce, established by Secretary Donald L. Evans on April 7, 2004 to ensure regular communication between Government and the manufacturing sector. This will be the inaugural meeting of the Council and include discussion of the organization of the Council and the implementation of the Manufacturing in America report, released by the Department of Commerce in January. The Council shall also advise the Secretary on government policies and programs that affect United States manufacturing and provide a forum for discussing and proposing solutions to industry-related problems.

DATES: June 15, 2004.

Time: 2 p.m.

ADDRESSES: Latrobe, PA. (Location—TBD; Please contact the Manufacturing Council Secretariat at (202) 482-1369 or visit the Manufacturing Council Web site at: http://www.manufacturing.gov/council.htm for the most up-to-date information.) This program is physically accessible to people with disabilities. Requests for sign language interpretation or other auxiliary aids should be submitted no later than June 8, 2004, to The Manufacturing Council, Room 2015B, Washington, DC, 20230. Seating is limited and will be on a first come, first served basis.

FOR FURTHER INFORMATION CONTACT: The Manufacturing Council Executive Secretariat, Room 2015B, Washington, DC, 20230 (Phone: 202-482-4501).

Dated: May 25, 2004.
Sam Giller,
Executive Secretary, The Manufacturing Council.

[FR Doc. 04-12204 Filed 5-27-04; 8:45 am]

BILLING CODE 3510-DR-P